TENNESSEE VALLEY AUTHORITY

Sunshine Act Meeting

AGENCY HOLDING THE MEETING: Tennessee Valley Authority (Meeting No. 1517).

Time and Date: 9 a.m. (CST), March 29, 2000.

Place: Nashville Convention Center, Level One, Rooms 103 and 104, 601 Commerce Street, Nashville, Tennessee.

Status: Open.

Agenda: Approval of minutes of meeting held on February 22, 2000.

New Business

B—Purchase Award

B1. Contract with Key Services, Inc., for telephone moves, additions, and changes.

B2. Contract with IBM Corporation for mainframe computer products and services.

C—Energy

C1. Extension of blanket agreement with A & G Tree Service, Inc., for transmission line right-of-way reclearing and maintenance.

C2. Extension of blanket agreement with Three Rivers Contracting for transmission line right-of-way reclearing and maintenance.

E—Real Property Transactions

E1. Amendment to Guntersville Reservoir Land Management Plan to change the allocated use for an 18.5-acre portion of Tract No. XGR-20PT from timber and wildlife management to industrial use and grant of a permanent easement for a road easement (Tract No. XTGR-166H) and a permanent industrial easement (Tract No. XTGR—1671E), both without charge, except for payment of TVA's administrative costs, to the City of Guntersville, affecting approximately 62.1 acres of land on Guntersville Reservoir in Marshall County, Alabama.

E2. Abandonment of approximately 14.7 acres of the Waterville-Kingsport Nolichucky Tap Transmission Line right-of-way easement in Greene County, Tennessee (Tract No. NOLT-2).

F—Unclassified

1. Filing of condemnation cases to acquire permanent easements, rights-of-way, right to enter, and fee simple ownership, affecting the Murfreesboro-Smyrna No. 2 Transmission Line, Rutherford County, Tennessee; West Ringgold-Center Point Transmission Line, Whitfield County, Georgia; and acquisition of 2.77 acres of land in Todd County, Kentucky, for the expansion of TVA's Elkton, Kentucky, Substation from a 69-kV to a 161-kV substation.

Information Items

1. Approval of the membership and chair appointments to the Regional Resource Stewardship Council.

For more information: Please call TVA Public Relations at (423) 632-6000, Knoxville, Tennessee. Information is also available at TVA's Washington Office (202) 898-2999. People who plan to attend the meeting and have special needs should call (865) 632-6000.

Dated: March 22, 2000.
Edward S. Christenbury,
General Counsel and Secretary.

[FR Doc. 00-7592 Filed 3-23-00; 1:21 pm]

BILLING CODE 8120-08-M